DEPARTMENT OF ENERGY

Federal Energy Regulatory Commission

[Project No. 12965-002]

Wickiup Hydro Group, LLC, Oregon; Notice of Availability of Environmental Assessment

In accordance with the National Environmental Policy Act of 1969 and the Federal Energy Regulatory Commission's (Commission or FERC's) regulations, 18 Code of Federal Regulations (CFR) Part 380 (Order No. 486, 52 FR 47897), the Office of Energy Projects has reviewed Wickiup Hydro Group, LLC's application for an original license for the Wickiup Dam Hydroelectric Project (FERC Project No. 12965-002), which would be constructed at the existing Bureau of Reclamation Wickiup Dam on the Deschutes River in Deschutes County near the city of La Pine, Oregon. The proposed project, if licensed, would occupy 1.02 acres of federal lands jointly managed by the U.S. Department of the Interior, Bureau of Reclamation, and the U.S. Forest Service.

The final environmental assessment (EA) contains staff's analysis of the potential environmental effects of licensing the project and concludes that licensing the project, with appropriate environmental protective measures, would not constitute a major federal action that would significantly affect the quality of the human environment.

A copy of the final EA is available for review at the Commission in the Public Reference Room or may be viewed on the Commission's web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

For further information, contact Matt Cutlip by telephone at 503-552-2762 or by email at matt.cutlip@ferc.gov.

Dated: November 2, 2012.
Kimberly D. Bose,
Secretary.

[FR Doc. 2012-27408 Filed 11-8-12; 8:45 am]

BILLING CODE 6717-01-P